DEPARTMENT OF ENERGY

Federal Energy Regulatory Commission

[Project No. 184]

El Dorado Irrigation District; Notice of Meeting

February 7, 2000.

The license for El Dorado Hydroelectric Project No. 184 will expire on February 23, 2002. The deadline for filing applications for a new license for the project is February 22, 2000.

As requested by El Dorado Irrigation District (District), current licensee, by letter filed on February 7, 2000, the staff of the Federal Energy Regulatory Commission will attend the February 22, 2000, District Board meeting to explain the relicensing process and answer questions on that subject and the pending license amendment application from the board and any interested parties.

The meeting will be held at 9:30 A.M., at 2890 Mosquito Road, Placerville, California 95667. Any questions about Commission's proceedings should be directed to Hector M. Perez, (202) 219-2843, hector.perez@ferc.fed.us.

David P. Boergers,
Secretary.

[FR Doc. 00-3320 Filed 2-11-00; 8:45 am]

BILLING CODE 6717-01-M